LEGAL SERVICES CORPORATION

Sunshine Act Meeting

DATE AND TIME: The Legal Services Corporation's Institutional Advancement Committee will meet telephonically on October 1, 2013. The meeting will commence at 4:00 p.m., EDT, and will continue until the conclusion of the Committee's agenda.

LOCATION: John N. Erlenborn Conference Room, Legal Services Corporation Headquarters, 3333 K Street NW., Washington DC 20007.

STATUS OF MEETING: Upon a vote of the Board of Directors, the meeting may be closed to the public to consider and act on recommendation of new prospective funders to the Board of Directors, and to discuss prospective funders for LSC's 40th anniversary celebration and development activities and prospective members for LSC's 40th anniversary committees.

A verbatim transcript will be made of the closed session meeting of the Institutional Advancement Committee. The transcript of any portion of the closed session falling within the relevant provision of the Government in the Sunshine Act, 5 U.S.C. 552b(c)(6) will not be available for public inspection. A copy of the General Counsel's Certification that, in his opinion, the closing is authorized by law will be available upon request.

MATTERS TO BE CONSIDERED:

Open

1. Approval of Agenda

2. Approval of minutes of the Committee's open session meeting of July 21, 2013

3. Approval of minutes of the Committee's open session meeting of August 6, 2013

4. Approval of minutes of the Committee's open session meeting of September 3, 2013

5. Discussion of case statement

6. Public Comment

7. Consider and act on other business

Closed

8. Approval of minutes of the Committee's closed session meeting of July 9, 2013

9. Approval of minutes of the Committee's closed session meeting of July 21, 2013

10. Approval of minutes of the Committee's closed session meeting of August 6, 2013

11. Approval of minutes of the Committee's closed session meeting of September 3, 2013

12. Consider and act on recommendation of new prospective funders to the Board of Directors

13. Discussion of prospective funders for LSC's 40th anniversary celebration and development activities

14. Discussion of prospective members for LSC's 40th anniversary committees

15. Consider and act on adjournment of meeting

CONTACT PERSON FOR INFORMATION: Atitaya Rok, Staff Attorney, at (202) 295-1500. Questions may be sent by electronic mail to FR_NOTICE_QUESTIONS@lsc.gov.

ACCESSIBILITY: LSC complies with the Americans with Disabilities Act and Section 504 of the 1973 Rehabilitation Act. Upon request, meeting notices and materials will be made available in alternative formats to accommodate individuals with disabilities. Individuals needing other accommodations due to disability in order to attend the meeting in person or telephonically should contact Atitaya Rok, at (202) 295-1500 or FR_NOTICE_QUESTIONS@lsc.gov, at least 2 business days in advance of the meeting. If a request is made without advance notice, LSC will make every effort to accommodate the request but cannot guarantee that all requests can be fulfilled.

Dated: September 23, 2013.
Atitaya C. Rok,
Staff Attorney.

[FR Doc. 2013-23537 Filed 9-24-13; 11:15 am]

BILLING CODE 7050-01-P